DEPARTMENT OF HOMELAND SECURITY

Federal Emergency Management Agency

44 CFR Part 67

[Docket No. FEMA-B-7734 & D-7818]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Larimer County, Colorado, and Incorporated Areas
Dry Creek (North of Canal) | Just upstream of the confluence with Larimer and Weld Canal | +4994 | +4993 | Unincorporated Areas of Larimer County.
| Approximately 900 feet downstream of Shields Street | +5017 | +5016
(South of Canal) | Just upstream of the confluence with the Cache La Poudre River | +4919 | +4916 | City of Fort Collins, Unincorporated Areas of Larimer County.
| Approximately 850 feet upstream of Redwood Street | +4965 | +4964
East Vine Diversion | Just upstream of the confluence with Dry Creek (South of Canal) | None | +4944 | City of Fort Collins, Unincorporated Areas of Larimer County.
| Just downstream of Larimer and Weld Canal | None | +4983
East Vine Diversion Left Overbank Flow | Just upstream of Vine Drive | None | +4944 | City of Fort Collins, Unincorporated Areas of Larimer County.
| Approximately 1900 feet upstream of Vine Drive | None | +4948
Larimer and Weld Canal | At the confluence with East Vine Diversion | None | +4983 | City of Fort Collins, Unincorporated Areas of Larimer County.
| At the upstream diversion from Dry Creek (North of Canal) | None | +4993
Old Dry Creek (Historic Channel) | Just downstream of Mulberry Street | +4921 | +4919 | Unincorporated Areas of Larimer County.
| Approximately 800 feet downstream of Dry Creek (South of Canal) | +4931 | +4930
* National Geodetic Vertical Datum.
# Depth in feet above ground.
+ North American Vertical Datum.
ADDRESSES
City of Fort Collins
Maps are available for inspection at Stormwater Utilities Department, 700 Wood Street, Fort Collins, CO 80521.
Send comments to Doug Hutchinson, Mayor, City of Fort Collins, 300 LaPorte Avenue, Fort Collins, CO 80522-0580.
Unincorporated Areas of Larimer County
Maps are available for inspection at 200 West Oak Street, Fort Collins, CO 80521.
Send comments to Karen Wagner, Chair, Larimer County Board of Commissioners, P.O. Box 1190, Fort Collins, CO 80522.
Graham County, North Carolina, and Incorporated Areas
Anderson Creek | At the confluence with Tulula Creek | None | +2,255 | Graham County.
| Approximately 0.4 mile upstream of State Road 1103 | None | +2,643
Atoah Creek | At the confluence with Long Creek | None | +2,045 | Graham County.
| Approximately 230 feet upstream of Lewis Nelson Road | None | +2,329
Bear Creek (near Dentons) | At the confluence with Little Snowbird Creek | None | +2,510 | Graham County.
| Approximately 1.5 miles upstream of the confluence with Little Snowbird Creek | None | +3,093
Beech Creek | At the confluence with Sweetwater Creek | None | +2,196 | Graham County.
| Approximately 1,920 feet upstream of the confluence of South Fork Beech Creek | None | +2,363
Bert Creek | At the confluence with Tulula Creek | None | +2,185 | Graham County.
| Approximately 1,100 feet upstream of Berts Creek Road | None | +2,344
Buffalo Creek | At the confluence with Cheoah River | None | +1,942 | Graham County.
| At the confluence of West Buffalo Creek | None | +1,942
Cheoah River | At the confluence with Little Tennessee River | None | +1,088 | Graham County, Town of Robbinsville.
| At the confluence of Tulula Creek and Sweetwater Creek | None | +1,982
Cochran Creek | Approximately 0.4 mile upstream of Cochrans Creek Road (State Road 1250) | None | +1,930 | Graham County.
| At the confluence with Cheoah River | None | +1,963
Cooloska Branch | At the confluence with Snowbird Creek | None | +1,942 | Graham County, Eastern Band of Cherokee Indians.
| Approximately 900 feet upstream of Massey Branch Road (State Road 1116) | None | +1,965
Tributary 1 | At the confluence with Cooloska Branch | None | +1,961 | Eastern Band of Cherokee Indians.
| Approximately 30 feet downstream of Jackson Branch Road (State Road 1149) | None | +2,008
Dry Creek | At the confluence with Stecoah Creek | None | +2,050 | Graham County.
| Approximately 1,630 feet upstream of Collins Cove | None | +2,629
East Buffalo Creek | At the confluence with Cheoah River | None | +1,942 | Graham County, Town of Lake Santeetlah.
| Approximately 0.4 mile upstream of Buffalo Lane | None | +2,066
Eller Mill Creek | At the confluence with Little Snowbird Creek | None | +2,317 | Graham County.
| Approximately 0.5 mile upstream of the confluence with Little Snowbird Creek | None | +2,540
Fontana Lake | Entire shoreline within Graham County | None | +1,710 | Graham County.
Franks Creek | At the confluence with Tulula Creek | None | +2,126 | Graham County.
| Approximately 1,000 feet upstream of Franks Creek Road (State Road 1207) | None | +2,315
Gladdens Creek | At the confluence with Cheoah River | None | +1,722 | Graham County.
| Approximately 0.5 mile upstream of Gladdens Creek Road (State Road 1135) | None | +1,917
Hares Creek | At the confluence with Tulula Creek | None | +2,278 | Graham County.
| Approximately 700 feet downstream of Carpenter Drive | None | +2,602
Hooper Mill Creek | At the confluence with West Buffalo Creek | None | +2,114 | Graham County.
| Approximately 20 feet downstream of the confluence of Seven Springs Branch | None | +2,672
Hyde Mill Creek | At the confluence with Tulula Creek | None | +2,084 | Graham County.
| Approximately 1,870 feet upstream of Floyd Carpenter Road (State Road 1132) | None | +2,433
Juanita Branch | At the confluence with Little Snowbird Creek | None | +2,985 | Graham County.
| Approximately 0.7 mile upstream of the confluence with Little Snowbird Creek | None | +3,255
Juts Creek | At the confluence with Tulula Creek | None | +2,425 | Graham County.
| Approximately 0.5 mile upstream of U.S. Highway 129 | None | +2,580
Little Buffalo Creek | At the confluence with West Buffalo Creek and Squally Creek | None | +2,361 | Graham County.
| Approximately 1.5 miles upstream of the confluence with West Buffalo Creek and Squally Creek | None | +2,928
Little Snowbird Creek | At the confluence with Snowbird Creek | None | +2,108 | Graham County, Eastern Band of Cherokee Indians.
| Approximately 800 feet upstream of the confluence of Hornet Nest Branch | None | +3,288
Little Tennessee River | Approximately 1.7 miles downstream of the confluence of Cheoah River | None | +1,088 | Graham County.
| At the downstream side of the Fontana Dam | None | +1,277
Long Creek | At the confluence with Cheoah River | None | +1,968 | Graham County, Town of Robbinsville.
| Approximately 1.4 miles upstream of Springwood Lake Road | None | +2,393
Mountain Creek | At the confluence with Cheoah River | None | +1,945 | Graham County, Eastern Band of Cherokee Indians.
| Approximately 50 feet downstream of Mountain Creek Road (State Road 1214) | None | +2,397
Mouse Branch | At the confluence with Panther Creek | None | +1,710 | Graham County.
| Approximately 2.0 miles upstream of the confluence with Panther Creek | None | +1,713
North Fork Tuskeegee Creek | At the confluence with Tuskeegee Creek | None | +1,953 | Graham County.
| Approximately 1,420 feet upstream of Upper Tuskeegee NP (State Road 1242) | None | +2,031
Ollie Branch | At the confluence with East Buffalo Creek | None | +1,943 | Graham County.
| Approximately 180 feet upstream of Ollies Creek Road (State Road 1253) | None | +2,246
Panther Creek | At the confluence with Little Tennessee River | None | +1,710 | Graham County.
| Approximately 0.4 mile upstream of Shell Stand Road (State Road 1268) | None | +1,886
Santeetlah Creek | At the confluence with Cheoah River | None | +1,942 | Graham County.
| Approximately 1.8 miles upstream of the confluence with Cheoah River | None | +1,942
Sawyer Creek | At the confluence with Stecoah Creek | None | +1,710 | Graham County.
| Approximately 0.4 mile upstream of Upper Sawyers Creek NP (State Road 1240) | None | +2,284
Snowbird Creek | At the confluence with Cheoah River | None | +1,942 | Graham County, Eastern Band of Cherokee Indians.
| Approximately 0.6 mile downstream of the confluence of Chestnut Flat Branch | None | +2,207
South Fork Beech Creek | At the confluence with Beech Creek | None | +2,283 | Graham County.
| Approximately 1.6 miles upstream of Beech Creek Road (State Road 1223) | None | +2,845
Squally Creek | At the confluence with West Buffalo Creek and Little Buffalo Creek | None | +2,361 | Graham County.
| Approximately 0.9 mile upstream of the confluence of South Fork Squally Creek | None | +3,922
Stecoah Creek | At the confluence with Little Tennessee River | None | +1,710 | Graham County.
| Approximately 0.7 mile upstream of Cody Branch (State Road 1226) | None | +2,328
Sweetwater Creek | At the confluence with Cheoah River and Tulula Creek | None | +1,982 | Graham County, Town of Robbinsville.
| Approximately 80 feet downstream of NC Highway 143 | None | +2,356
Town Branch | At the confluence with Panther Creek | None | +1,710 | Graham County.
| Approximately 0.5 mile upstream of the confluence of Town Branch Tributary 1 | None | +1,729
Tributary 1 | At the confluence with Town Branch | None | +1,710 | Graham County.
| Approximately 0.5 mile upstream of the confluence with Town Branch | None | +1,712
Tulula Creek | At the confluence with Cheoah River and Sweetwater Creek | None | +1,982 | Graham County, Town of Robbinsville.
| Approximately 0.8 mile upstream of the confluence of Juts Creek | None | +2,506
Tuskeegee Creek | At the confluence with Little Tennessee River | None | +1,710 | Graham County.
| At the confluence of North Fork Tuskeegee Creek | None | +1,953
West Buffalo Creek | At the confluence with Buffalo Creek | None | +1,942 | Graham County.
| At the confluence of Squally Creek and Little Buffalo Creek | None | +2,361
Wolf Creek | At the confluence with Panther Creek | None | +1,710 | Graham County.
| Approximately 0.5 mile upstream of Little Bear Lane | None | +1,855
Yellow Creek | At the confluence with Cheoah River | None | +1,447 | Graham County.
| Approximately 0.9 mile upstream of Yellow Creek Road (State Road 1242) | None | +2,338
* National Geodetic Vertical Datum.
# Depth in feet above ground.
+ North American Vertical Datum.
ADDRESSES
Eastern Band of Cherokee Indians
Maps are available for inspection at Ginger Lynn Welch Complex, 810 Aquona Road, Cherokee, North Carolina.
Send comments to Mr. Michell Hicks, Principal Chief for the Eastern Band of Cherokee Indians, P.O. Box 455, Cherokee, North Carolina 28719.
Graham County
Maps are available for inspection at Graham County Mapping Department, 12 North Main Street, Robbinsville, North Carolina.
Send comments to Mrs. Sandra Smith, Graham County Manager, 12 North Main Street, Robbinsville, North Carolina 28771.
Town of Lake Santeetlah
Maps are available for inspection at Lake Santeetlah Town Hall, 4 Marina Drive, Lake Santeetlah, North Carolina.
Send comments to The Honorable Harding Hohenschutz, Mayor of the Town of Lake Santeetlah, 4 Marina Drive, Lake Santeetlah, North Carolina 28771.
Town of Robbinsville
Maps are available for inspection at Robbinsville Town Hall, 4 Court Street, Robbinsville, North Carolina.
Send comments to The Honorable Bobby Cagle, Jr., Mayor of the Town of Robbinsville, P.O. Box 129, Robbinsville, North Carolina 28771.
Moody County, South Dakota, and Incorporated Areas
Big Sioux River | Just upstream of County Highway 32 2500 feet upstream of First Avenue | None None | +1532 +1543 | Unincorporated Areas of Moody County, City of Flandreau.
* National Geodetic Vertical Datum.
# Depth in feet above ground.
+ North American Vertical Datum.
ADDRESSES
City of Flandreau
Maps are available for inspection at 1005 W. Elm Avenue, Planning and Zoning Department, Flandreau, SD 57028.
Send comments to The Honorable Warren Ludeman, Mayor, City of Flandreau, 1005 W. Elm Avenue, PO Box 343, Flandreau, SD 57028.
Unincorporated Areas of Moody County
Maps are available for inspection at 101 E. Pipestone Avenue, Suite E, Flandreau, SD 57028.
Send comments to Ms. Brenda Duncan, Planning and Zoning Secretary, 101 E. Pipestone Avenue, Suite E, Flandreau, SD 57028.

(Catalog of Federal Domestic Assistance No. 97.022, “Flood Insurance.”)

Dated: August 31, 2007.
David I. Maurstad,
Federal Insurance Administrator of the National Flood Insurance Program, Department of Homeland Security, Federal Emergency Management Agency.

[FR Doc. E7-17821 Filed 9-10-07; 8:45 am]

BILLING CODE 9110-12-P